ENVIRONMENTAL PROTECTION AGENCY

[EPA-HQ-OPP-2009-0054; FRL-8810-9]

Disulfoton Registration Review Decision; Notice of Availability

AGENCY: Environmental Protection Agency (EPA).

ACTION: Notice.

SUMMARY: This notice announces the availability of EPA’s registration review decision for the pesticide disulfoton, case 0102. Registration review is EPA’s periodic review of pesticide registrations to ensure that each pesticide continues to satisfy the statutory standard for registration, that is, that the pesticide can perform its intended function without causing unreasonable adverse effects on human health or the environment. Through this program, EPA is ensuring that each pesticide’s registration is based on current scientific and other knowledge, including its effects on human health and the environment.

FOR FURTHER INFORMATION CONTACT: For pesticide specific information, contact: Eric Miederhoff, Pesticide Re-evaluation Division (7508P), Office of Pesticide Programs, Environmental Protection Agency, 1200 Pennsylvania Ave., NW., Washington, DC 20460-0001; telephone number: (703) 347-8028; fax number: (703) 308-8090; e-mail address: miederhoff.eric@epa.gov.

For general information on the registration review program, contact: Kevin Costello, Pesticide Re-evaluation Division (7508P), Office of Pesticide Programs, Environmental Protection Agency, 1200 Pennsylvania Ave., NW., Washington, DC 20460-0001; telephone number: (703) 305-5026; fax number: (703) 308-8090; e-mail address: costello.kevin @epa.gov.

SUPPLEMENTARY INFORMATION:

I. General Information

A. Does this Action Apply to Me?

This action is directed to the public in general, and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the pesticide specific contact person listed under FOR FURTHER INFORMATION CONTACT.

B. How Can I Get Copies of this Document and Other Related Information?

EPA has established a docket for this action under docket identification (ID) number EPA-HQ-OPP-2009-0054. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Background

A. What Action is the Agency Taking?

Pursuant to 40 CFR 155.58(c), this notice announces the availability of EPA’s registration review decision for disulfoton, case 0102. Disulfoton is an organophosphate insecticide used in agricultural settings on a variety of food and non-food/non-feed crops and in residential settings on ornamentals.

Pursuant to 40 CFR 155.57, a registration review decision is the Agency’s determination whether a pesticide meets, or does not meet, the standard for registration in FIFRA. EPA has considered disulfoton in light of the FIFRA standard for registration. The Disulfoton Decision document in the docket describes the Agency’s rationale for issuing a registration review decision for this pesticide.

In addition to the registration review decision document, the registration review docket for disulfoton also includes other relevant documents related to the registration review of this case. The proposed registration review decision was announced on October 23, 2009, and the public was invited to submit any comments or new information. During the 60-day comment period, no public comments were received.

Background on the registration review program is provided at: http://www.epa.gov/oppsrrd1/registration_review. Links to earlier documents related to the registration review of this pesticide are provided at: http://www.epa.gov/oppsrrd1/registration_review/disulfoton/index.htm.

B. What is the Agency's Authority for Taking this Action?

Section 3(g) of FIFRA and 40 CFR part 155, subpart C, provide authority for this action.

List of Subjects

Environmental protection, Registration review, Pesticides and pests, Disulfoton.

Dated: January 29, 2010.
Richard P. Keigwin, Jr.,
Director, Pesticide Re-evaluation Division, Office of Pesticide Programs.

[FR Doc. 2010-2669 Filed 2-9-10; 8:45 am]

BILLING CODE 6560-50-S